DEPARTMENT OF HEALTH AND HUMAN SERVICES

Administration for Children and Families

Submission for OMB Review; Comment Request

Title: Head Start Health Managers Descriptive Study.

OMB No.: New Collection.

Description: The Administration for Children and Families (ACF), U.S. Department of Health and Human Services (HHS), is proposing a data collection activity that will provide descriptive data about the Head Start Health Services Area. The goals of the Head Start Health Manager Descriptive Study are (1) to describe the characteristics of Health Managers and related staff in Head Start (HS) and Early Head Start (EHS) programs; (2) to identify the current landscape of health programs and services being offered to children and families; (3) to determine how health initiatives are prioritized, implemented, and sustained; and (4) to identify the programmatic features and policy levers that exist to support health services including staffing, environment, and community collaboration. These objectives will be accomplished through an online survey of all HS/EHS Health Managers, including American Indian/Alaskan Native and Migrant and Seasonal Head Start grantees. The survey responses will be further informed by semi-structured interviews conducted with a subsample of Head Start health managers, teachers, family service workers, and home visitors.

Respondents: The target respondents for this data collection are Head Start Health Managers at the grantee and delegate level; however data will also be collected from Head Start Directors, Teachers, Family Service Workers, and Home Visitors.

Annual Burden Estimates
Instrument | Annual number of respondents | Number of responses per respondent | Average burden hours per response | Total annual burden hours
Head Start Director Survey | 2,870 | 1 | 0.25 | 718
Head Start Health Managers Survey | 2,900 | 1 | 1.25 | 3,625
Semi-structured Interviews: Head Start Health Managers | 40 | 1 | 0.75 | 30
Semi-structured Interviews: Head Start Teachers, Family Service Workers, and Home Visitors | 60 | 1 | 0.75 | 45

Estimated Total Annual Burden Hours: 4,418.

Additional Information

Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Fax: 202-395-6974. Attn: Desk Officer for the Administration for Children and Families.

Dated: March 9, 2012.
Steven M. Hanmer,
OPRE Reports Clearance Officer.

[FR Doc. 2012-6219 Filed 3-14-12; 8:45 am]

BILLING CODE 4184-22-M